DEPARTMENT OF LABOR

Employment and Training Administration

Comment Request for the Agricultural and Food Processing Clearance Order, ETA Form 790, Extension Without Revisions, and the Agricultural and Food Processing Clearance Memorandum, ETA Form 795, Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)] (PRA). The program helps ensure that respondents can provide requested data in the desired format with minimal reporting burden (time and financial resources), collection instruments are clearly understood and the impact of collection requirements on respondents can be properly assessed.

Currently, ETA is soliciting comments concerning the extension of the expiration date (October 31, 2015) to October 2018 for ETA Forms 790 and 795, with no revisions made to either form. In situations where an adequate supply of workers does not exist locally, agricultural employers must use the Agricultural and Food Processing Clearance Order, ETA Form 790, to list the job opening with the State Workforce Agency (SWA) for recruiting temporary agricultural workers. The Agricultural and Food Processing Clearance Memorandum, ETA Form 795, is used by SWAs to extend job orders beyond their jurisdictions, give notice of action on a clearance order, request additional information, amend the order, report results, and accept or reject the extended job order.

Interested parties are encouraged to provide comments to the contact shown in the ADDRESSES section. Comments must be written to receive consideration, and they will be summarized and included in the request for OMB approval of the final ICR. In order to help ensure appropriate consideration, comments should mention 1205-0134.

DATES: Submit written comments to the office listed in the addresses section below on or before August 25, 2015.

ADDRESSES: A copy of this ICR with applicable supporting documentation; including a description of the likely respondents, proposed frequency of response, and estimated total burden may be obtained free by contacting Kimberly Vitelli, Office of Workforce Investment, Room C-4510, Employment and Training Administration, U.S. Department of Labor, 200 Constitution Avenue NW., Washington, DC 20210. Telephone number: 202-693-3980 (this is not a toll-free number). Individuals with hearing or speech impairments may access the telephone number above via TTY by calling the toll-free Federal Information Relay Service at 1-877-889-5627 (TTY/TDD). Fax: 202-693-3981. Email: nma@dol.gov.

FOR FURTHER INFORMATION CONTACT: Kimberly Vitelli, 202-693-3980

SUPPLEMENTARY INFORMATION:

I. Background

Currently, ETA is soliciting comments regarding the extension of the expiration date for the Agricultural and Food Processing Clearance Order Form (ETA Form 790) without revisions and for the Agricultural and Food Processing Clearance Memorandum (ETA Form 795) without revisions.

The Agricultural and Food Processing Clearance Order, ETA Form 790, is used by agricultural employers to list the job opening with the State Workforce Agencies (SWAs) for recruiting temporary agricultural workers in situations where an adequate supply of workers does not exist locally. The Agricultural and Food Processing Clearance Memorandum, ETA Form 795, is used by SWAs to extend job orders beyond their jurisdictions, give notice of action on a clearance order, request additional information, amend the order, report results, and accept or reject the extended job order.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Agency: DOL-ETA.

Type of Review: Extension without changes of currently approved collection.

Title of Collection: Agricultural and Food Processing Clearance Order, ETA Form 790, and Agricultural and Food Processing Clearance Memorandum, ETA Form 795.

Form: ETA 790 and ETA 795.

OMB Control Number: 1205-0134.

Affected Public: Agricultural employers, SWAs, Agricultural workers.

Estimated Number of Respondents: 9,356. (8,356 responses for ETA Form 790 and 1,000 responses for ETA Form 795).

Frequency: Occasional.

Total Estimated Annual Responses: 9,356.

Estimated Average Time per Response: 60 minutes for ETA form 790 and 15 minutes for ETA Form 795.

Estimated Total Annual Burden Hours: 8,606 hours.

Total Estimated Annual Other Cost Burden: $289,592.

We will summarize and/or include in the request for OMB approval of the ICR, the comments received in response to this comment request; they will also become a matter of public record.

Portia Wu,
Assistant Secretary for Employment and Training, Labor.

[FR Doc. 2015-15734 Filed 6-25-15; 8:45 am]

BILLING CODE 4510-FN-P